DEPARTMENT OF HEALTH AND HUMAN SERVICES

Office of the National Coordinator for Health Information Technology; American Health Information Community Population Health and Clinical Care Connections Workgroup Meeting

ACTION: Meeting cancellation.

SUMMARY: This notice announces the cancellation of the 15th meeting of the American Health Information Community Population Health and Clinical Care Connections Workgroup [formerly Biosurvellance Workgroup] in accordance with the Federal Advisory Committee Act (Pub. L. 92-463, 5 U.S.C., App.)

Canceled Date/Time: April 20, 2007, from 10 a.m., to 3:30 p.m. Eastern Daylight Time.

ADDRESSES: Hubert H. Humphrey Building (200 Independence Avenue, SW., Washington, DC 20201), Room 505A. Please bring photo ID for entry to a Federal building).

FOR FURTHER INFORMATION CONTACT: http://www.hhs.gov/healthit/ahic/population/.

Dated: March 27, 2007.
Judith Sparrow,
Director, American Health Information Community, Office of Programs and Coordination, Office of the National Coordinator for Health Information Technology.

[FR Doc. 07-1645 Filed 4-3-07; 8:45 am]

BILLING CODE 4150-24-M